DEPARTMENT OF TRANSPORTATION

Federal Aviation Administration

Agency Information Collection Activities: Requests for Comments; Clearance of Renewed Approval of Information Collection: Certification of Airports

AGENCY: Federal Aviation Administration (FAA), DOT.

ACTION: Notice and request for comments.

SUMMARY: In accordance with the Paperwork Reduction Act of 1995, FAA invites public comments about our intention to request the Office of Management and Budget (OMB) approval to renew an information collection. This rule revised the airport certification regulations and establishes certification requirements for airports serving scheduled air carrier operations in aircraft with 10-30 seats. The changes to 14 CFR Part 139 resulted in additional information collections from respondents.

DATES: Written comments should be submitted by July 11, 2011.

FOR FURTHER INFORMATION CONTACT: Carla Scott on (202) 385-4293, or by e-mail at: Carla.Scott@faa.gov.

SUPPLEMENTARY INFORMATION: OMB Control Number: 2120-0675.

Title: Certification of Airports, 14 CFR part 139.

Form Numbers: FAA Form 5280-1.

Type of Review: Renewal of an information collection.

Background: Information collection requirements contained in the final rule is used by the FAA to determine an airport operator's compliance with part 139 safety and operational requirements, and to assist airport personnel to perform duties required under the proposed regulation.

Respondents: Approximately 600 airport operators.

Frequency: Information is collected on occasion.

Estimated Average Burden per Response: 22 hours.

Estimated Total Annual Burden: 52,993 hours.

ADDRESSES: Send comments to the FAA at the following address: Ms. Carla Scott, Room 336, Federal Aviation Administration, AES-300, 950 L'Enfant Plaza, SW., Washington, DC 20024.

Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on May 5, 2011.
Carla Scott,
FAA Information Collection Clearance Officer, IT Enterprises Business Services Division, AES-300.

[FR Doc. 2011-11586 Filed 5-11-11; 8:45 am]

BILLING CODE 4910-13-P